NATIONAL FOUNDATION ON THE ARTS AND THE HUMANITIES

Institute of Museum and Library Services; Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

Time and Date: Monday, June 25, 2006 from 2 p.m. to 5:15 p.m.

Agenda: Committee Meetings of the Eleventh National Museum and Library Service Board Meeting:

2 p.m.-3:30 p.m. Meeting of the Committee on Policy & Planning.

I. Staff Reports.

II. Other Business.

3:45 p.m.-5:15 p.m. Meetings of the Committee on Partnerships & Government Affairs.

I. Staff Reports.

II. Other Business.

(Open to the public).

Place: The meetings will be held in the Board room at the Institute of Museum and Library Services. 1800 M Street, NW., 9th Floor, Washington, DC 20036. Telephone: (202) 653-4676.

Time and Date: Tuesday, June 26, 2007 from 8:30 a.m. to 5 p.m.

Agenda: Eleventh National Museum and Library Services Board Meeting:

8:30 a.m.-10 a.m. Jury Meeting to consider the National Awards for Library Services.

(Closed to the Public).

10:15 a.m.-11:45 a.m. Jury Meeting to consider the National Awards for Museum Services.

(Closed to the Public).

1:30 p.m.-2 p.m. Award Deliberations.

(Closed to the Public).

2 p.m.-5 p.m. Eleventh National Museum and Library Services Board Meeting:

I. Welcome.

II. Approval of Minutes.

III. Financial Update.

IV. Legislative Update.

V. Committee Discussion.

VI. Board Program.

VII. Board Update.

VIII. Adjournment.

(Open to the Public).

Place: The meeting will be held in the Board Room at the Institute of Museum and Library Services, 1800 M Street, NW., 9th Floor, Washington, DC 20036. Telephone: (202) 653-4676.

FOR FURTHER INFORMATION CONTACT: Elizabeth Lyons, Special Events and Board Liaison, Institute of Museum and Library Services, 1800 M Street, NW., 9th Floor, Washington, DC 20036. Telephone: (202) 653-4676.

SUPPLEMENTARY INFORMATION: The National Museum and Library Services Board is established under the Museum and Library Services Act, 20 U.S.C. 9101 et seq. The Board advises the Director of the Institute on general policies with respect to the duties, powers, and authorities related to Museum and Library Services.

The Jury Meetings to consider the National Awards for Museum and Library Services and the National Award Recommendation session, on Tuesday June 26, 2007, will be closed pursuant to subsections (c)(4) and (c)(9) of section 552b of Title 5, United States Code because the Board will consider information that may disclose: Trade secrets and commercial or financial information obtained from a person and privileged or confidential; and information the premature disclosure of which would be likely to significantly frustrate implementation of a proposed agency action. The meetings from 2 p.m. until 5:15 p.m. on Monday, June 25, 2007 and the meeting from 2 p.m. to 5 p.m. on Tuesday, June 26, 2007 are open to the public. If you need special accommodations due to a disability, please contact: Institute of Museum and Library Services, 1800 M Street, NW., 9th Fl., Washington, DC 20036. Telephone: (202) 653-4676; TDD (202) 653-4699 at least seven (7) days prior to the meeting date.

Dated: June 11, 2007.
Kate Fernstrom,
Chief of Staff.

[FR Doc. 07-2976 Filed 6-12-07; 3:35 pm]

BILLING CODE 7036-01-M